DEPARTMENT OF HEALTH AND HUMAN SERVICES

Centers for Disease Control and Prevention

Change in Date of Publication of Final HIV Content Guidelines for AIDS-Related Materials, Pictorials, Audiovisuals, Questionnaires, Survey Instruments, Marketing, Advertising and Web Site Materials, and Educational Sessions in CDC School-Based Assistance Programs

AGENCY: Department of Health and Human Services (HHS), Centers for Disease Control and Prevention (CDC).

ACTION: General notice.

SUMMARY: On June 16, 2004, CDC published a notice in the Federal Register entitled “Interim HIV Content Guidelines for AIDS-Related Materials, Pictorials, Audiovisuals, Questionnaires, Survey Instruments, Marketing, Advertising, and Web Site Materials, and Educational Sessions in CDC School-based Assistance Programs.” The purpose of the notice was to request public comment on the Interim Guidelines. Also in the notice, CDC stated that it anticipated publishing a Final Guidance document within 120 days of the close of the public comment period.

The purpose of this notice is to announce a revised publication date of the Final Guidance document. CDC anticipated receiving approximately 500 public comments but received nearly 5,000 comments to both notices published on June 16, 2004. CDC is working to appropriately consider each of the comments it received. Because of the increased time that it will take to adequately review the nearly 5,000 comments, CDC now intends to publish the “Final HIV Content Guidelines for AIDS-related Materials, Pictorials, Audiovisuals, Questionnaires, Survey Instruments, Marketing, Advertising and Web Site Materials, and Educational Sessions in CDC School-based Assistance Programs” by spring, 2005.

On June 16, 2004, CDC also published another notice in the Federal Register entitled “Proposed Revision of Interim HIV Content Guidelines for AIDS-Related Materials, Pictorials, Audiovisuals, Questionnaires, Survey Instruments, Marketing, Advertising, and Web Site Materials, and Educational Sessions in CDC Regional, State, Territorial, Local, and Community Assistance Programs”. Like the notice for School-based assistance programs, this notice requested public comment on proposed revisions of the Interim HIV Content Guidelines first published in 1992 and stated that CDC anticipated publishing a Final Guidance document within 120 days of the close of the public comment period. CDC now also intends to publish the “Final HIV Content Guidelines for AIDS-Related Materials, Pictorials, Audiovisuals, Questionnaires, Survey Instruments, Marketing, Advertising, and Web Site Materials, and Education Sessions in CDC Regional, State, Territorial, Local and Community Assistance Programs” by spring, 2005.

FOR FURTHER INFORMATION CONTACT: Tim Hack, Centers for Disease Control and Prevention, National Center for Chronic Disease Prevention and Health Promotion, 1600 Clifton Road, NE., Mailstop K29, Atlanta, Georgia 30333. Telephone: (770) 488-3249.

Dated: December 1, 2004.
James D. Seligman,
Associate Director for Program Services, Centers for Disease Control and Prevention.

[FR Doc. 04-27019 Filed 12-8-04; 8:45 am]

BILLING CODE 4163-18-P